ENVIRONMENTAL PROTECTION AGENCY

[FRL-9688-6]

Public Meeting on Draft Permitting Guidance for Oil and Gas Hydraulic Fracturing Activities Using Diesel Fuels

AGENCY: Environmental Protection Agency (EPA).

ACTION: Notice.

SUMMARY: The Environmental Protection Agency (EPA or agency) is announcing a public meeting to discuss draft permitting guidance the agency has developed on the use of diesel fuels in oil and gas hydraulic fracturing and to solicit input during the public comment period. The meeting is open to all interested parties. The agency requests input on the following technical aspects of the draft permitting guidance: Diesel fuels description; diesel fuels usage information; permit duration and well closure; area of review; information submitted with the permit application; and monitoring.

DATES: The meeting will take place on Monday, June 29, 2012, in Room 1153 EPA East, 1201 Constitution Ave. NW., Washington, DC. Participants may choose from two sessions, from 8:30 a.m. to 12 p.m. or from 1:30 p.m. to 5:00 p.m. Seating is limited. Registration will be filled on a first-come, first-served basis. To allow for maximum public participation, registrants are asked to select one session only. Pre-registration will open on Wednesday, June 20, 2012, and close on Thursday, June 28, 2012, at noon. Registration may also be available at the door as space permits. See SUPPLEMENTARY INFORMATION section for registration details.

FOR FURTHER INFORMATION CONTACT: Sherri Comerford, Office of Ground Water and Drinking Water, Environmental Protection Agency, 1200 Pennsylvania Ave. NW., Mailcode 4606M, Washington, DC 20460; telephone number: 202-564-4639; email address: comerford.sherri@epa.gov.

SUPPLEMENTARY INFORMATION: EPA is hosting a public informational meeting to discuss “Permitting Guidance for Oil and Gas Hydraulic Fracturing Activities Using Diesel Fuels—Draft: Underground Injection Control Program Guidance #84.” The draft guidance, available at this Web site, http://water.epa.gov/type/groundwater/uic/class2/hydraulicfracturing/hydraulic-fracturing.cfm, is intended to provide information for EPA permit writers issuing permits under the Safe Drinking Water Act to ensure protection of underground sources of drinking water. The draft guidance is open for public comment from May 10, 2012, to July 9, 2012, to allow stakeholders to provide input and feedback before it is finalized. The meeting is open to the public, and all interested stakeholders are invited to attend.

Registration details: Registration is scheduled to open on Wednesday, June 20, 2012, and close on Thursday, June 28, 2012, at noon. Participants are requested to pre-register for either the 8:30 a.m. to 12:00 p.m. session or the 1:30 p.m. to 5:00 p.m. session, using an online form that will be accessible from the following Web site: http://water.epa.gov/type/groundwater/uic/class2/hydraulicfracturing/wells_hydroout.cfm. Registration may also be available at the door as space permits. Please check the Web site for availability.

Meeting information: Both morning and afternoon sessions will begin with a brief presentation by the EPA Office of Ground Water and Drinking Water on the basics of the guidance. Copies of EPA's presentation will be available at the meeting and posted on the Web at http://water.epa.gov/type/groundwater/uic/class2/hydraulicfracturing/wells_hydroout.cfm the day of the meeting. An oral comment session will follow the presentation. Oral comments will be limited to two (2) minutes each, and it is preferred that only one person present the statement on behalf of a group or organization to accommodate as many participants as possible. Registered attendees requesting to make an oral presentation will be placed on the commenting schedule. Time slots are limited and will be filled on a first-come, first-served basis. EPA may ask clarifying questions during the oral presentations, but will not respond to the presentations.

You may present oral comments during the meeting; and/or submit written comments and supporting information directly to EPA. Instructions for submitting comments, the draft guidance, and a Federal Register notice providing detail on topics on which the agency invites comment, are available on the Web site, http://water.epa.gov/type/groundwater/uic/class2/hydraulicfracturing/hydraulic-fracturing.cfm. Written statements and supporting information submitted during the comment period will be considered in the same manner as any oral comments and supporting information presented at the public meeting. The agency requests input on the following technical aspects of the draft permitting guidance: diesel fuels description; diesel fuels usage information; permit duration and well closure; area of review; information submitted with the permit application; and monitoring.

All attendees must go through a metal detector, sign in with the security desk, and show government-issued photo identification to enter the building.

Special Accommodations: For information on access or services for individuals with disabilities and to request accommodation of a disability, please contact Sherri Comerford at (202) 564-4639 or Comerford.Sherri@epa.gov, preferably at least 5 days prior to the meeting, to give EPA as much time as possible to process your request.

Dated: June 11, 2012.
Pamela S. Barr,
Acting Director, Office of Ground Water and Drinking Water.

[FR Doc. 2012-14786 Filed 6-15-12; 8:45 am]

BILLING CODE 6560-50-P